DEPARTMENT OF JUSTICE

Notice of Lodging Consent Decree Pursuant to the Clean Air Act, the Comprehensive Environmental Response, Compensation and Liability Act, and the Emergency Planning and Community Right-To-Know Act

In accordance with 28 CFR 50.7, notice is hereby given that on January 15, 2008, a proposed consent decree in United States v. Sinclair Wyoming Refining Co., et al., Case No. 08cv020-D, was lodged with the United States Court for the District of Wyoming. The proposed consent decree would resolve the United States' claims against Sinclair Wyoming. Refining Company, Sinclair Casper Refining Company, and Sinclair Tulsa Refining Company (collectively the “Sinclair Refineries”) brought pursuant to Section 113(b) of the CAA, 42 U.S.C. 7413(b); Section 103(a) of the Comprehensive Environmental Response, Compensation and Liability Act, 42 U.S.C. 9603(a); and Section 304 of the Emergency Planning and Community Right-To-Know Act, 42 U.S.C. 11004. Under the terms of the consent decree, the Sinclair Refineries will pay civil penalties totaling $2,450,000 to the United States and the states of Oklahoma and Wyoming, undertake supplemental environmental projects valued at $150,000, and complete extensive injunctive relief.

The Department of Justice will receive comments relating to the proposed consent decree for a period of thirty (30) days from the date of this publication. Comments should be addressed to the Assistant Attorney General, Environment and Natural Resources Division, P.O. Box 7611, U.S. Department of Justice, Washington, DC 20044-7611, and may be submitted electronic mail to the following address: pubcomment-ees.enrd@usdoj.gov. Comments should refer to United States v. Sinclair Wyoming Refining Co., et al., Case No. 08cv020-D, and Department of Justice Reference No. 90-5-2-1-07793.

The consent decree may be examined on the following Department of Justice Web site, http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $36.50 ($.25 per page) payable to the U.S. Treasury.

Robert D. Brook,
Assistant Chief, Environmental Enforcement Section, Environment and Natural Resources Division.

[FR Doc. 08-265 Filed 1-24-08; 8:45 am]

BILLING CODE 4410-15-M